DEPARTMENT OF LABOR

Employment and Training Administration

[TA-W-55,518]

BASF Corporation, Freeport, TX; Notice of Affirmative Determination Regarding Application for Reconsideration

By application of October 15, 2004, a petitioner requested administrative reconsideration of the Department of Labor's Notice of Negative Determination Regarding Eligibility to Apply for Worker Adjustment Assistance, applicable to workers of the subject firm. The negative determination for the workers of BASF Corporation, Freeport, Texas was signed on October 4, 2004, and the Department's notice of determination was published in the Federal Register on October 26, 2004 (69 FR 62461).

The initial investigation found that workers are separately identifiable by product line (polycaprolactum, oxo, diols, and acrylic monomers), that polycaprolactum, oxo and diol production increased during the relevant period, and that the subject company neither increased imports of acrylic monomers during the relevant period nor shifted acrylic monomer production abroad.

In the request for reconsideration, the petitioner alleged that the subject firm has shifted acrylic monomer production to China.

The Department has carefully reviewed the petitioner's request for reconsideration and previously submitted documents, and has determined that the petitioner has provided additional information and that the subject worker group was erroneously categorized. Therefore, the Department will conduct further investigation to determine if the workers meet the eligibility requirements of the Trade Act of 1974.

Conclusion

After careful review of the application, I conclude that the claim is of sufficient weight to justify reconsideration of the Department of Labor's prior decision. The application is, therefore, granted.

Signed in Washington, DC, this 12th day of January, 2005.
Elliott S. Kushner,
Certifying Officer, Division of Trade Adjustment Assistance.

[FR Doc. E5-269 Filed 1-25-05; 8:45 am]

BILLING CODE 4510-30-P